DEPARTMENT OF HEALTH AND HUMAN SERVICES

National Institutes of Health

Office of the Director, National Institutes of Health; Notice of Closed Meeting

Pursuant to section 10(d) of the Federal Advisory Committee Act, as amended (5 U.S.C. Appendix 2), notice is hereby given of a meeting of the Advisory Committee to the Director, National Institutes of Health (NIH).

The meeting will be closed to the public in accordance with the provisions set forth in sections 552b(c)(4) and 552b(c)(6), Title 5 U.S.C., as amended. The grant applications and the discussions could disclose confidential trade secrets or commercial property such as patentable material, and personal information concerning individuals associated witht he grant applications, the disclosure of which would constitute a clearly unwarranted invasion of personal property.

Name of Committee: Advisory Committee to the Director, NIH.

Date: August 17, 2006.

Time: 2 p.m. to 3 p.m.

Place: National Institutes of Health, Building 31, 31 Center Drive, Room 5B64, Bethesda, MD 20892.

Agenda: To review and evaluate grant applications (Telephone Conference Call).

Contact Person: Shelly Pollard, ACD Coordinator, National Institutes of Health, 9000 Rockville Pike, Building 31, Room 5B64, Bethesda, MD 20892, (301) 496-0959, pollards@mail.nih.gov.

Dated: June 29, 2006.
Anna Snouffer,
Acting Director, Office of Federal Advisory Committee Policy.

[FR Doc. 06-6046 Filed 7-6-06; 8:45 am]

BILLING CODE 4140-01-M